ENVIRONMENTAL PROTECTION AGENCY

[FRL 7069-8]

Agency Information Collection Activities; OMB Responses

ACTION: Notice.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control number for EPA's regulations are listed in 40 CFR part 9 and 48 CFR Chapter 15.

FOR FURTHER INFORMATION CONTACT: Sandy Farmer at 260-2740, or email at Farmer.sandy@epa.gov, and please refer to the appropriate EPA Information Collection Request (ICR) Number.

SUPPLEMENTARY INFORMATION:

OMB Responses to Agency Clearance Requests

OMB Approvals

EPA ICR No. 1849.01; Landfill Methane Outreach Program; was approved 06/05/2001; OMB No. 2060-0446; expires 10/31/2003.

EPA ICR No.; 1643.04; Application Requirements for the Approval and Delegation of Federal Air Toxics Programs, to State, Territorial, Local, and Tribal Agencies; in 40 CFR Part 63, subpart E; was approved 06/05/2001; OMB No. 2060-0264; expires 06/30/2004.

EPA ICA No. 0222.05; Investigation into Possible Noncompliance of Motor Vehicles with Federal Emission Standards; was approved 06/05/2001; OMB No. 2060-0086; expires 06/30/2002.

EPA ICR No. 1687.05; NESHAP Aerospace Manufacturing and Rework Operations; in 40 CFR part 63, subpart GG; was approved 05/31/2001; OMB No. 2060-0314; expires 05/31/2004.

EPA ICR No. 1080.10; National Emission Standards for Hazardous Air Pollutants, Benzene Emission from Benzene Storage Vessells and Coke by-Product recovery plants in 40 CFR, part 61, subpart L & Y was approved 08/01/2001; OMB No. 2060-0185; expires 08/31/2004.

EPA ICR No. 1135.07; New Source Performance Standards (NSPS) for Magnetic Tape Coating Facilities; 40 CFR part 60, subpart SSS; was approved 02/15/01; OMB No. 2060-0171; expires 02/29/2004.

EPA ICR No. 0574.11; Pre-Manufacture Review Reporting and Exemption Requirements for New Chemical Substances and Significant New Use Reporting Requirements for Chemical Substances; in 40 CFR Part 720, 721, 723 and 725; was approved 07/23/200; OMB No. 2070- 0012; expires 07/21/2004.

EPA ICR No. 1432.20; Recordkeeping and Periodic Reporting of the Production Import, Recycling, Destruction, Transshipment and Feedstock Use of Ozone-Depleting Substances; in 40 CFR Part 82.13; was approved 07/19/2001; OMB No. 2060-0170; expires 09/30/2001.

EPA ICR No. 1710.03; Residential Lead-Based Paint Hazard Disclosure Requirements; in 40 CFR Part 745, subpart F; was approved 07/03/2001; OMB No. 2070-0151; expires 07/31/2004.

EPA ICR No. 1246.08; Rule Related Replacement ICR to the Existing ICR entitled “Reporting and Recordkeeping for Asbestos Abatement Worker Protection”; in 40 CFR part 763, subpart G; was approved 07/23/01; OMB No. 2070-0072; expires 07/31/2004

EPA ICR No. 1693.02; Plant-Incorporated Protectants; CBI Substantiation and Adverse Effects Reporting; was approved 07/23/2001; OMB No. 2070-0142; expires 07/31/2004.

EPA ICR No. 1593.05; Standards of Performance for Air Emission Standards for Tanks, Surface Impoundments and Containers, in 40 CFR part 264, subpart CC, and 40 CFR part 265; was approved 07/11/2001; OMB No. 2060-0318; expires on 07/31/2004

Short Term Extensions

EPA ICR No. 1012.06; Polychlorinated Biphenyls (PCBs) Disposal Permitting Regulation; OMB No. 2070-0011 on 06/29/2001 OMB extended the expiration date through 07/31/2001.

EPA ICR No. 1011.40; Partial Updating of TSCA Inventory Data Base; Production and Site Reports; OMB No. 2070-0070; on 06/30/2001 OMB extends the expiration date through 09/30/2001.

EPA ICR No. 0867.07; Polychlorinated Biphenyls (PCBs): Manufacturing, Processing, and Distribution in Commerce Exemptions; OMB No. 2070-0021; on 06/29/2001 OMB extended the expiration date through 07/31/2001.

EPA ICR No. 1001.06; Polychlorinated Biphenyls (PCBs); Exclusions, Exemptions, and Use Authorizations; OMB No. 2070-0008; on 06/29/01 OMB extended the expiration date through 07/31/2001.

EPA ICR No. 1823.01; Reporting and Recordkeeping Requirements under the Perfluorocompound (PFC) Emission Reduction Partnership for the Semiconductor Industry; OMB NO. 2060-0382; on 06/29/01 OMB extended the expiration date through 09/30/2001.

Comment Filed

EPA ICR No. 1957.01; Reporting and Recordkeeping Requirements for Metal Coil Surface Coating Plants; on 06/07/2001; OMB filed comment and continue.

EPA ICR No. 1938.01; National Emission Standards for Hazardous Air Pollutants from Municipal Solid Waste Landfills; in 40 CFR, part 60, subparts CC and WWW; on 06/07/2001; OMB filed comment and continue.

EPA ICR No. 1951.01; NESHAP for Source Categories; Paper and Other Web Coating Operations; in 40 CFR, Part 63, subpart JJJJ on 06/14/2001; OMB filed comment and continue.

EPA ICR No. 1886.01; Recordkeeping and Reporting Requirements for National Emission Standards for Hazardous Air Pollutants (NESHAP for Manufacturing of Nutritional Yeast Source Category; 40 CFR, part 63, subpart CCCC; on 08/01/2001; OMB filed comment.

Withdrawn

EPA ICR No. 1969.01; National Emission Standards of Hazardous Air Pollutants (NESHAP) from Miscellaneous Organic Chemical Manufacturing; was withdrawn from OMB on 07/13/2001.

Dated: September 12, 2001.
Oscar Morales,
Director, Collection Strategies Division.

[FR Doc. 01-24376 Filed 9-27-01; 8:45 am]

BILLING CODE 6560-50-M